CONSUMER PRODUCT SAFETY COMMISSION

[Docket No. CPSC-2012-0026]

Agency Information Collection Activities; Submission for OMB Review; Comment Request—Requirements Pertaining to Third Party Conformity Assessment Bodies

AGENCY: Consumer Product Safety Commission.

ACTION: Notice.

SUMMARY: In accordance with the requirements of the Paperwork Reduction Act (“PRA”) of 1995 (44 U.S.C. chapter 35), the Consumer Product Safety Commission (“Commission” or “CPSC”) announces that the Commission has submitted to the Office of Management and Budget (“OMB”) a request for extension of approval of a collection of information under the requirements pertaining to third party conformity assessment bodies (OMB No. 3041-0156). In the Federal Register of February 12, 2016 (81 FR 7511), the CPSC published a notice to announce the agency's intention to seek extension of approval of the collection of information. The Commission received no comments. Therefore, by publication of this notice, the Commission announces that CPSC has submitted to the OMB a request for extension of approval of that collection of information, without change.

DATES: Written comments on this request for extension of approval of information collection requirements should be submitted by May 27, 2016.

ADDRESSES: Submit comments about this request by email: OIRA_submission@omb.eop.gov or fax: 202-395-6881. Comments by mail should be sent to the Office of Information and Regulatory Affairs, Attn: OMB Desk Officer for the CPSC, Office of Management and Budget, Room 10235, 725 17th Street NW., Washington, DC 20503. In addition, written comments that are sent to OMB also should be submitted electronically at http://www.regulations.gov, under Docket No. CPSC-2012-0026.

FOR FURTHER INFORMATION CONTACT: For further information contact: Robert H. Squibb, Consumer Product Safety Commission, 4330 East-West Highway, Bethesda, MD 20814; (301) 504-7815, or by email to: rsquibb@cpsc.gov.

SUPPLEMENTARY INFORMATION: CPSC has submitted the following currently approved collection of information to OMB for extension:

Title: Requirements Pertaining to Third Party Conformity Assessment Bodies.

OMB Number: 3041-0156.

Type of Review: Renewal of collection.

Frequency of Response: On occasion.

Affected Public: Third party conformity assessment bodies seeking acceptance of accreditation or continuing accreditation.

Estimated Burden:

• New Applications From Third Party Conformity Assessment Bodies

○ We estimate approximately 40 new applications from independent third party conformity assessment bodies will be submitted per year, taking an estimated 75 minutes to complete the initial application materials, with an estimated burden of 50 hours per year.

○ We estimate approximately 3 firewalled third party conformity assessment bodies will apply per year, taking an estimated 8.4 hours to complete the initial application materials, with an estimated burden of 25.2 hours per year.

○ We estimate approximately 4 governmental third party conformity assessment bodies will apply per year, taking an estimated 3 hours to complete the initial application materials, with an estimated burden of 12 hours per year.

• Third party conformity assessment bodies updating information

○ We estimate that approximately 5 third party conformity assessment bodies will take 15 minutes to update information for only those elements of information that need updating, with an estimated burden of 1.35 hours per year.

• Third party conformity assessment bodies that subcontracts out tests

○ We estimate that approximately 27 third party conformity assessment bodies will take 7 minutes to comply with the subcontracting recordkeeping requirement for an estimated 68,769 subcontract test, with an estimated of approximately 8,023 hours per year.

• Third party conformity assessment bodies that voluntarily withdraw

○ We estimate approximately 8 third party conformity assessment bodies will withdraw yearly, taking an estimated 30 minutes to create and submit the required documentation, with an estimated burden of 4 hours per year.

• Third party conformity assessment bodies that are audited

○ We estimate that approximately 228 independent third party conformity assessment bodies each year will be audited, taking approximately 4 minutes to resubmit their Form 223 and accreditation certificate, with an estimated burden of 15.2 hours per year.

○ We estimate that approximately 18 firewalled third party conformity assessment bodies will spend 226 minutes collecting and preparing the documentation to submit for an audit, with estimated burden of about 68 hours per year.

○ We estimate approximately 25 governmental third party conformity assessment bodies will spend 1 hour collecting and preparing the documentation to submit for an audit, with estimated burden of 25 hours per year.

• Total Annual Burden

Adding all of the annual estimated burden hours results in a total of 8,224 hours for third party conformity assessment bodies per year. At $38.78 per hour, the total cost of the recordkeeping associated with the Requirements Pertaining to Third Party Conformity Assessment Bodies is approximately $318,927 (8,224 hours × $38.78 = $318,927).

General Description of Collection: On March 12, 2013, the Commission issued a rule Pertaining to Third Party Conformity Assessment Bodies (78 FR 15836). The rule established the general requirements concerning third party conformity assessment bodies, such as the requirements and procedures for CPSC acceptance of the accreditation of a third party conformity assessment body, and prescribed adverse actions that may be imposed against CPSC-accepted third party conformity assessment bodies. The rule also amended the audit requirements for third party conformity assessment bodies and amends the Commission's regulation on inspections.

Dated: April 21, 2016.
Todd A. Stevenson,
Secretary, Consumer Product Safety Commission.

[FR Doc. 2016-09711 Filed 4-26-16; 8:45 am]

BILLING CODE 6355-01-P